DEPARTMENT OF DEFENSE

Office of the Secretary

Renewal of Department of Defense Federal Advisory Committees

AGENCY: DoD.

ACTION: Notice.

SUMMARY: Under the provisions of the Federal Advisory Committee Act of 1972, as amended (5 U.S.C. Appendix), the Department of Defense gives notice that the Threat Reduction Advisory Committee, intends to modify the existing charter to include the use of subcommittees. This committee and its subcommittees provide necessary and valuable independent advice to the Secretary of Defense and other senior Defense officials in their respective areas of expertise.

It is a continuing DoD policy to make every effort to achieve a balanced membership on all DoD advisory committees. Each committee is evaluated in terms of the functional disciplines, levels of experience, professional diversity, public and private association, and similar characteristics required to ensure a high degree of balance is obtained.

FOR FURTHER INFORMATION CONTACT: Frank Wilson, DoD Committee Management Officer, 703-601-2554.

Dated: December 22, 2006.
L.M. Bynum,
Alternate OSD Federal Register, Liaison Officer, Department of Defense.

[FR Doc. 06-9945 Filed 12-29-06; 8:45 am]

BILLING CODE 5001-06-M